DEPARTMENT OF AGRICULTURE

Rural Housing Service

Notice of Funds Availability for the Section 533 Housing Preservation Grants for Fiscal Year 2009

Correction

In notice document E9-10645 beginning on page 21775 in the issue of Monday, May 11, 2009 make the following correction:

On pages 21776 and 21777, the list of State Offices, addresses, telephone numbers, and contact persons is reprinted to read as set forth below:

Alabama State Office, Suite 601, Sterling Centre, 4121 Carmichael Road, Montgomery, Alabama 36106-3683, (334) 279-3454, TDD (334), 279-3495, Anne Chavers.

Alaska State Office, 800 West Evergreen, Suite 201, Palmer, Alaska 99645, (907) 761-7740, TDD (907) 761-8905, Debbie I. Davis.

Arizona State Office, Phoenix Courthouse and Federal Building, 230 North First Avenue, Suite 206, Phoenix, Arizona 85003-1706, (602) 280-8768, TDD (602) 280-8706, Carol Torres.

Arkansas State Office, 700 West Capitol Avenue, Room 3416, Little Rock, Arkansas 72201-3225, (501) 301-3258, TDD (501) 301-3063, Clinton King.

California State Office, 430 G Street, #4169, Davis, California 95616-4169, (530) 792-5821, TDD (530) 792-5848, Debra Moretton.

Colorado State Office, 655 Parfet Street, Room E100, Lakewood, Colorado 80215, (720) 544-2923, TDD (800) 659-2656, Mary Summerfield.

Connecticut, Served by Massachusetts State Office.

Delaware and Maryland State Office, 1221 College Park Drive, Suite 200, Dover, Delaware 19904, (302) 857-3615, TDD (302) 857-3585, Pat Baker.

Florida & Virgin Islands State Office, 4440 N.W. 25th Place, Gainesville, Florida 32606-6563, (352) 338-3465, TDD (352) 338-3499, Elizabeth M. Whitaker.

Georgia State Office, Stephens Federal Building, 355 East Hancock Avenue, Athens, Georgia 30601-2768, (706) 546-2164, TDD (706) 546-2034, Dawn Pilgrim.

Hawaii State Office, (Services all Hawaii, American Samoa, Guam, and Western Pacific), Room 311, Federal Building, 154 Waianuenue Avenue, Hilo, Hawaii 96720, (808) 933-8300, TDD (808) 933-8321, Gayle Kuheana.

Idaho State Office, Suite A1, 9173 West Barnes Drive, Boise, Idaho 83709, (208) 378-5628, TDD (208) 378-5644, Joyce Weinzetl.

Illinois State Office, 2118 West Park Court, Suite A, Champaign, Illinois 61821-2986, (217) 403-6222, TDD (217) 403-6240, Barry L. Ramsey.

Indiana State Office, 5975 Lakeside Boulevard, Indianapolis, Indiana 46278, (317) 290-3100 (ext. 426), TDD (317) 290-3343, Mary Hawthorne.

Iowa State Office, 210 Walnut Street Room 873, Des Moines, Iowa 50309, (515) 284-4666, TDD (515) 284-4858, Mary Beth Juergens.

Kansas State Office, 1303 SW First American Place, Suite 100, Topeka, Kansas 66604-4040, (785) 271-2700, TDD (785) 271-2767, Mike Resnik.

Kentucky State Office, 771 Corporate Drive, Suite 200, Lexington, Kentucky 40503, (859) 224-7325, TDD (859) 224-7422, Beth Moore.

Louisiana State Office, 3727 Government Street, Alexandria, Louisiana 71302, (318) 473-7962, TDD (318) 473-7655, Yvonne R. Emerson.

Maine State Office, Post Office Box 405, Bangor, Maine 04402-0405, (207) 990-9110, TDD (207) 942-7331, Bob Nadeau.

Maryland, Served by Delaware State Office.

Massachusetts, Connecticut, & Rhode Island State Office, 451 West Street Suite 2, Amherst, Massachusetts 01002, (413) 253-4315, TDD (413) 253-4590, Paul Geoffroy.

Michigan State Office, 3001 Coolidge Road, Suite 200, East Lansing, Michigan 48823, (517) 324-5199, TDD (517) 337-6795, Kelly Darland.

Minnesota State Office, 375 Jackson Street Building, Suite 410, St. Paul, Minnesota 55125, (651) 602-7804, TDD (651) 602-7830, Thomas Osborne.

Mississippi State Office, Federal Building, Suite 831, 100 West Capitol Street, Jackson, Mississippi 39269, (601) 965-4325, TDD (601) 965-5850, Darnella Smith-Murray.

Missouri State Office, 601 Business Loop 70 West, Parkade Center, Suite 235, Columbia, Missouri 65203, (573) 876-9303, TDD (573) 876-9480, Becky Eftink.

Montana State Office, 900 Technology Boulevard, Suite B, Bozeman, Montana 59771, (406) 585-2515, TDD (406) 585-2562, Deborah Chorlton.

Nebraska State Office, Federal Building, Room 152, 100 Centennial Mall N, Lincoln, Nebraska 68508, (402) 437-5557, TDD (402) 437-5093, Lanae Brasch.

Nevada State Office, 1390 South Curry Street, Carson City, Nevada 89703-9910, (775) 887-1222 (ext. 14), TDD (775) 885-0633, Mona Sargent.

New Hampshire State Office, Concord Center, Suite 218, Box 317, 10 Ferry Street, Concord, New Hampshire 03301-5004, (603) 223-6046, TDD (603) 229-0536, Sandra Hawkins.

New Jersey State Office, 5th Floor North, Suite 500, 8000 Midlantic Drive, Mt. Laurel, New Jersey 08054, (856) 787-7773, TDD (856) 787-7784, Derrick S. Waltz.

New Mexico State Office, 6200 Jefferson Street, NE, Room 255, Albuquerque, New Mexico 87109, (505) 761-4944, TDD (505) 761-4938, Susan Ellzey.

New York State Office, The Galleries of Syracuse, 441 South Salina Street, Suite 357 5th Floor, Syracuse, New York 13202, (315) 477-6453, TDD (315) 477-6447, Kathryn Boerner.

North Carolina State Office, 4405 Bland Road, Suite 260, Raleigh, North Carolina 27609, (919) 873-2062, TDD (919) 873-2003, Rebecca Dillard.

North Dakota State Office, Federal Building, Room 208, Post Office Box 1737, Bismarck, North Dakota 58502, (701) 530-2046, TDD (701) 530-2113, Barry Borstad.

Ohio State Office, Federal Building, Room 507, 200 North High Street, Columbus, Ohio 43215-2477, (614) 255-2409, TDD (614) 255-2554, Cathy Simmons.

Oklahoma State Office, 100 USDA, Suite 108, Stillwater, Oklahoma 74074-2654, (405) 742-1076, TDD (405) 742-1007, Tim Henderson.

Oregon State Office, 1201 NE Lloyd Boulevard, Suite 801, Portland, Oregon 97232-1274, (503) 414-3340, TDD (503)414-3387, Barb Brandon.

Pennsylvania State Office, One Credit Union Place, Suite 330, Harrisburg, Pennsylvania 17110-2996, (717) 237-2282, TDD (717) 237-2261, Martha E. Hanson.

Puerto Rico State Office, IBM Building, Suite 601, Munoz Rivera Ave., #654, San Juan, Puerto Rico 00918, (787) 766-5095 (ext. 256), TDD (787) 766-5332, Jan Vargas.

Rhode Island, Served by Massachusetts State Office.

South Carolina State Office, Strom Thurmond Federal Building, 1835 Assembly Street, Room 1007, Columbia, South Carolina 29201, (803) 765-5870, TDD (803) 765-5697, Lila Moses.

South Dakota State Office, Federal Building, Room 210, 200 Fourth Street, SW., Huron, South Dakota 57350, (605) 352-1132, TDD (605) 352-1147, Roger Hazuka or Pam Reilly.

Tennessee State Office, Suite 300, 3322 West End Avenue, Nashville, Tennessee 37203-1084, (615) 783-1300, TDD (615) 783-1397, Abby Boggs.

Texas State Office, Federal Building, Suite 102, 101 South Main, Temple, Texas 76501, (254) 742-9769, TDD (254) 742-9712, Olivia Pinon.

Utah State Office, Wallace F. Bennett Federal Building, 125 South State Street, Room 4311, Salt Lake City, Utah 84138, (801) 524-4308, TDD (801) 524-3309, Janice Kocher.

Vermont State Office, City Center, 3rd Floor, 89 Main Street, Montpelier, Vermont 05602, (802) 828-6021, TDD (802) 223-6365, Heidi Setien.

Virgin Islands, Served by Florida State Office.

Virginia State Office, Culpeper Building, Suite 238, 1606 Santa Rosa Road, Richmond, Virginia 23229, (804) 287-1596, TDD (804) 287-1753, CJ Michels.

Washington State Office, 1835 Black Lake Boulevard, Suite B, Olympia, Washington 98512, (360) 704-7706, TDD (360) 704-7760, Bill Kirkwood.

Western Pacific Territories, Served by Hawaii State Office.

West Virginia, Parkersburg West Virginia County Office, 91 Boyles Lane, Parkersburg, West Virginia 26104, (304) 422-9070, TDD (304) 284-4836, Penny Thaxton.

Wisconsin State Office, 4949 Kirschling Court, Stevens Point, Wisconsin 54481, (715) 345-7608 (ext.111), TDD (715) 345-7614, Sara Kendall.

Wyoming State Office, Post Office Box 82601, Casper, Wyoming 82602-5006, (307) 233-6716, TDD (307) 233-6733, Alan Brooks.

[FR Doc. Z9-10645 Filed 6-1-09; 8:45 am]

BILLING CODE 1505-01-D